DEPARTMENT OF HEALTH AND HUMAN SERVICES

Centers for Disease Control and Prevention

Disease, Disability, and Injury Prevention and Control Special Emphasis Panel (SEP)—DD21-001, Study To Explore Early Development (SEED) Follow Up Studies; Correction

AGENCY: Centers for Disease Control and Prevention (CDC), Health and Human Services.

ACTION: Notice; correction.

SUMMARY: The CDC published a document in the Federal Register of September 30, 2020, concerning a closed meeting of the Disease, Disability, and Injury Prevention and Control Special Emphasis Panel (SEP)—DD21-001, Study to Explore Early Development (SEED) Follow up Studies. The document contained incorrect dates.

FOR FURTHER INFORMATION CONTACT: Jaya Raman Ph.D., Scientific Review Officer, CDC, 4770 Buford Highway, Mailstop S107-8, Atlanta, Georgia 30341, Telephone: (770) 488-6511, JRaman@cdc.gov.

SUPPLEMENTARY INFORMATION:

Correction

In the Federal Register of September 30, 2020, in FR Doc 2020-21604, on page 61752, in the first column, correct the “Date” and “Time” captions to read:

Date: January 12, 2021.

Time: 10:00 a.m.-6:00 p.m., EST.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-25959 Filed 11-23-20; 8:45 am]

BILLING CODE 4163-18-P